DEPARTMENT OF AGRICULTURE

Forest Service

Notice of New Recreation Fee; Federal Lands Recreation Enhancement Act

AGENCY: Coronado National Forest, USDA Forest Service, Tucson, Arizona.

ACTION: Notice of new recreation fee.

SUMMARY: The Coronado National Forest is proposing to add the Portal CCC House and Portal Bunkhouse into the recreation rental program. The proposal is to charge $125.00 per night at the Portal CCC House and $100.00 per night at the Portal Bunkhouse. The Portal CCC House has two bedrooms (one with a futon couch, the second with a set of bunk beds), a single bathroom (with a shower), a small dining/living room combination, and a fully-equipped kitchen. It can accommodate up to five people. The Portal Bunkhouse has one bedroom (with a set of bunk beds and a small rollaway bed), a single bathroom (with a shower), and a small kitchen/dining room combination. It can accommodate up to four people. Both facilities have electric lights, heat, and running water.

Other cabin rentals on National Forests in Arizona have shown the public appreciates the enhanced recreational opportunity afforded by these rehabilitated historic structures. Revenues from the rentals will be used for the continued operation and maintenance of this facility and other properties in the Arizona “Rooms with a View” Cabin Rental Program.

DATES: Send any comments about these fee proposals by November 1, 2013, so comments can be compiled, analyzed, and shared with the BLM Arizona Recreation Resource Advisory Council (R-RAC). If this proposal is approved, it is anticipated that the Portal CCC House and Portal Bunkhouse would become available for overnight rental in the spring 2014.

ADDRESSES: Forest Supervisor, Coronado National Forest, 300 West Congress, Tucson, AZ 85701.

FOR FURTHER INFORMATION CONTACT: Kathy Makansi, Archaeologist, Coronado National Forest at (520) 760-2502 or by email at kmakansi@fs.fed.us. Information about the proposed new fees can also be found on the Coronado National Forest Web site: http://www.fs.usda.gov/coronado.

SUPPLEMENTARY INFORMATION: The Federal Recreation Lands Enhancement Act (Title VII, Pub. L. 108-447) directed the Secretary of Agriculture to publish a six month advance notice in the Federal Register whenever new recreation fee areas are established. This new fee will be reviewed by the Bureau of Land Management Arizona Recreation Resource Advisory Council (R-RAC) prior to final decision and implementation by the Regional Forester, Southwest Region, USDA Forest Service.

The Coronado National Forest currently has four other cabin rental facilities, which are booked regularly throughout the year. The public has expressed interest in additional cabin rental opportunities on the Coronado National Forest.

People wanting to rent the Portal CCC House or Portal Bunkhouse would need to do so through the National Recreation Reservation Service at www.recreation.gov, or by calling 1-877-444-6777, The National Recreation Reservation Service charges a $9 reservation fee for online reservations and a $10 reservation fee for phone reservations.

Dated: July 8, 2013.
Jamie Kingsbury,
Deputy Forest Supervisor, Coronado National Forest.

[FR Doc. 2013-16931 Filed 7-15-13; 8:45 am]

BILLING CODE 3410-11-M